DEPARTMENT OF JUSTICE

Office of Justice Programs

Agency Information Collection Activities: Proposed Collection; Comment Request; Census of Juveniles in Residential Placement

ACTION: Notice of information collection under review; reinstatement, without change, of a previously approved collection for which approval has expired.

The Department of Justice, Office of Justice Programs, has submitted the following information collection request for review and clearance in accordance with the Paperwork Reduction Act of 1995. Office of Management and Budget approval is being sought for the information collection listed below. This proposed information collection was previously published in the Federal Register on February 20, 2001, allowing for a 60-day public comment period office of Management and Budget (OMB) approval is being sought for the information collection listed below. This proposed information collection was previously published in the Federal Register and allowed 60 days for public comment.

The purpose of this notice is to allow an additional 30 days for public comments form the date listed at the top of this page in the Federal Register. This process is conducted in accordance with 5 Code of Federal Regulation, § 1320.10.

Written comments and/or suggestions regarding the item(s) contained in this notice, especially regarding the estimated public burden and associated response time, should be directed to the Office of Management and Budget, Office of Information and Regulatory Affairs, Attention: Department of Justice Desk Officer, Washington, DC 20503. Additionally, comments may be submitted to OMB via facsimile to 202-395-7285. Comments may also be submitted to the Department of Justice (DOJ), Justice Management Division, Information Management and Security Staff, Attention: Department Deputy Clearance Officer, National Place Suite 1220, 1331 Pennsylvania Avenue, NW, Washington, DC 20530.

Written comments and suggestions from the public and affected agencies should address one or more of the following points:

(1) Evaluate whether the proposed collection of information is necessary for the proper performance of the functions of the agency/components, including whether the information will have practical utility;

(2) evaluate the accuracy of the agencies/components estimate of the burden of the proposed collection of information, including the validity of the methodology and assumptions used;

(3) enhance the quality, utility, and clarity of the information to be collected; and

(4) minimize the burden of the collection of information on those who are to respond, including through the use of appropriate automated, electronic, mechanical, or other technological collection techniques or other forms of information technology, e.g., permitting electronic submission of responses.

Overview of this information collection:

(1) Type of information collection: reinstatement, without change, of a previously approved collection for which approval has expired.

(2) The title of the form/collection: Census of Juveniles in Residential Placement.

(3) The agency form number, if any, and the applicable component of the Department sponsoring the collection. Form: CJ-14, Office of Juvenile Justice and Delinquency Prevention, Office of Justice Programs, United States Department of Justice.

(4) Affected public who will be asked or required to respond, as well as a brief abstract. Primary: Public and private juvenile detention, correctional, shelter, facilities. Other: None.

(5) An estimate of the total number of respondents and the amount of time estimated for an average respondent to respond: 3,350 respondents and average 4 hours to respond.

(6) An estimate of the total public burden (in hours) associated with the collection: 11,142 biennial burden hours.

Dated: April 30, 2001.
Brenda E. Dyer,
Department Clearance Officer, Department of Justice.

[FR Doc. 01-11352 Filed 5-4-01; 8:45 am]

BILLING CODE 4410-18-M